DEPARTMENT OF COMMERCE

Meeting of the National Advisory Council on Innovation and Entrepreneurship

AGENCY: U.S. Department of Commerce.

ACTION: Notice of an open conference call.

SUMMARY: The National Advisory Council on Innovation and Entrepreneurship will hold a phone conference on Monday, May 3, 2011. The meeting will be conducted from 2 p.m. to 3 p.m. and will be opened to the public via listen only conference call. The Council was chartered on November 10, 2009, to advise the Secretary of Commerce on matters relating to innovation and entrepreneurship in the United States.

DATES: May 3, 2011.

Time: 2 p.m.-3 p.m. (EST)

ADDRESSES: Public participation via a listen in conference number can be reached at 888-942-9574, and passcode, 6315042.

SUPPLEMENTARY INFORMATION: Agenda will be to discuss the Council's draft report on access to capital. Any member of the public may submit pertinent written comments concerning the Council's affairs at any time before and after the meeting. Comments may be submitted to Bilal Mahmood at the contact information indicated below.

Copies of Board meeting minutes will be available within 90 days of the meeting.

FOR FURTHER INFORMATION CONTACT: Bilal Mahmood, Office of Innovation and Entrepreneurship, Room 7019, 1401 Constitution Avenue, NW., Washington, DC, 20230, telephone: 202-482-3688, e-mail: bmahmood@eda.doc.gov. Please reference, “NACIE May 3, 2011” in the subject line of your e-mail.

Dated: April 14, 2011.
Paul J. Corson,
Office of Innovation and Entrepreneurship, U.S. Department of Commerce.

[FR Doc. 2011-9482 Filed 4-19-11; 8:45 am]

BILLING CODE 3510-03-P